DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Lahaina, Kaanapali & Pacific Railroad

[Docket Number FRA-2001-10516]

The Lahaina, Kaanapali & Pacific Railroad (LKP) requests a waiver of compliance with certain provisions of the 49 CFR part 230, Inspection and Maintenance Standards for Steam Locomotives. The specific part of the regulations for which waiver is sought is CFR 230.25, which requires that the maximum allowable stress per square inch (psi) of the net cross sectional area of fire box and combustion chamber stays shall be 7,500 psi. LKP seeks this waiver to allow the stay bolt stress to be increased to 12,600 psi, which meets the requirements of the 1983 ASME code, for two steam locomotives named Anaka and Myrtle. The railroad feels that their method of attachment (welding) provides greater strength than threaded attachment of the stays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2001-10516) and must be submitted to the Docket Clerk, DOT Central Docket Management Facility, Room Pl-401, 400 Seventh Street, S.W., Washington, DC. 20590-0001. Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC on September 19, 2001.
Grady C. Cothen, Jr.,
Deputy Associate Administrator for Safety Standards and Program Development.

[FR Doc. 01-23934 Filed 9-24-01; 8:45 am]

BILLING CODE 4910-06-P